DEPARTMENT OF HOMELAND SECURITY

U.S. Customs and Border Protection

DEPARTMENT OF THE TREASURY

19 CFR Part 10

Articles Conditionally Free, Subject to a Reduced Rate, etc.

CFR Correction

In Title 19 of the Code of Federal Regulations, parts 0 to 140, revised as of April 1, 2015, on page 259, in § 10.470, revise the section heading to read “Verification and justification of claim for preferential tariff treatment.”

[FR Doc. 2016-07555 Filed 3-31-16; 8:45 am]

BILLING CODE 1505-01-D